SMALL BUSINESS ADMINISTRATION

[Disaster Declaration #21157 and #21158; TENNESSEE Disaster Number TN-20023]

Presidential Declaration of a Major Disaster for the State of Tennessee

AGENCY: U.S. Small Business Administration.

ACTION: Notice.

SUMMARY: This is a Notice of the Presidential declaration of a major disaster for the State of Tennessee (FEMA-4878-DR), dated June 19, 2025.

Incident: Severe Storms, Straight-line Winds, Tornadoes, and Flooding.

DATES: Issued on June 19, 2025.

Incident Period: April 2, 2025 through April 24, 2025.

Physical Loan Application Deadline Date: August 19, 2025.

Economic Injury (EIDL) Loan Application Deadline Date: March 19, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the President's major disaster declaration on June 19, 2025, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): Cheatham, Davidson, Dickson, Dyer, Hardeman, McNairy, Montgomery, Obion, Wilson.

Contiguous Counties (Economic Injury Loans Only):

Tennessee: Cannon, Chester, Crockett, Dekalb, Fayette, Gibson, Hardin, Haywood, Hickman, Houston, Humphreys, Lake, Lauderdale, Madison, Robertson, Rutherford, Smith, Stewart, Sumner, Trousdale, Weakley, Williamson.

Arkansas: Mississippi.

Kentucky: Christian, Fulton, Hickman, Todd.

Mississippi: Alcorn, Benton, Tippah.

Missouri: Pemiscot.

The Interest Rates are:

| Percent
For Physical Damage:
Homeowners with Credit Available Elsewhere | 5.500
Homeowners without Credit Available Elsewhere | 2.750
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 21157C and for economic injury is 211580.

(Catalog of Federal Domestic Assistance Number 59008)

(Authority: 13 CFR 123.3(b).)

James Stallings,
Associate Administrator, Office of Disaster Recovery & Resilience.

[FR Doc. 2025-12040 Filed 6-30-25; 8:45 am]

BILLING CODE 8026-09-P